ENVIRONMENTAL PROTECTION AGENCY

40 CFR Parts 52

[EPA-R06-OAR-2015-0054; FRL-9926-91-Region 6]

Approval and Promulgation of Implementation Plans; State of Arkansas; Revisions to the State Implementation Plan; Fee Regulations

AGENCY: Environmental Protection Agency (EPA).

ACTION: Direct final rule.

SUMMARY: The Environmental Protection Agency (EPA) is taking a direct final action to approve revisions to the Arkansas State Implementation Plan (SIP) related to the Fee Regulations section of the Arkansas SIP that were submitted by the State of Arkansas on November 6, 2012. The EPA has evaluated the SIP submittal from Arkansas and determined these revisions are consistent with the requirements of the Clean Air Act (Act or CAA). The EPA is approving this action under section 110 of the Act.

DATES: This direct final rule is effective on June 29, 2015 without further notice, unless the EPA receives relevant adverse comment by June 1, 2015. If the EPA receives such comment, the EPA will publish a timely withdrawal in the Federal Register informing the public that this rule will not take effect.

ADDRESSES: Submit your comments, identified by Docket ID No. EPA-R06-OAR-2015-0054, by one of the following methods:

(1) www.regulations.gov: Follow the on-line instructions.

(2) Email: Ms. Tracie Donaldson at donaldson.tracie@epa.gov.

(3) Mail or Delivery: Ms. Tracie Donaldson, Air Permits Section (6PD-R), Environmental Protection Agency, 1445 Ross Avenue, Suite 1200, Dallas, Texas 75202-2733.

Instructions: Direct your comments to Docket ID No. EPA-R06-OAR-2015-0054. EPA's policy is that all comments received will be included in the public docket without change and may be made available online at http://www.regulations.gov, including any personal information provided, unless the comment includes information claimed to be Confidential Business Information (CBI) or other information the disclosure of which is restricted by statute. Do not submit information through http://www.regulations.gov or email, if you believe that it is CBI or otherwise protected from disclosure. The http://www.regulations.gov Web site is an “anonymous access” system, which means that the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment along with any disk or CD-ROM submitted. If the EPA cannot read your comment due to technical difficulties and cannot contact you for clarification, the EPA may not be able to consider your comment. Electronic files should avoid the use of special characters and any form of encryption and should be free of any defects or viruses. For additional information about the EPA's public docket, visit the EPA Docket Center homepage at http://www.epa.gov/epahome/dockets.htm. Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Ms. Tracie Donaldson, (214) 665-6633, donaldson.tracie@epa.gov. To inspect the hard copy materials, please schedule an appointment with Ms. Donaldson or Mr. Bill Deese at (214) 665-7253.

SUPPLEMENTARY INFORMATION: Throughout this document wherever “we,” “us,” or “our” is used, we mean the EPA.

Table of Contents

I. Background

A. CAA and SIPs

B. SIP Revision Submitted on November 6, 2012

II. The EPA's Evaluation

III. Final Action

IV. Incorporation by Reference

V. Statutory and Executive Order Reviews

I. Background

A. CAA and SIPs

Section 110 of the CAA requires states to develop and submit to the EPA a SIP to ensure that state air quality meets National Ambient Air Quality Standards (NAAQS). The NAAQS currently address six criteria pollutants: carbon monoxide, nitrogen dioxide, ozone, lead, particulate matter, and sulfur dioxide. Each federally-approved SIP protects air quality primarily by addressing air pollution at its point of origin through air pollution regulations and control strategies. The EPA-approved SIP provisions and control strategies are federally enforceable. States revise the SIP as needed and submit revisions to the EPA for approval.

B. SIP Revision Submitted on November 6, 2012

On June 22, 2012, the Arkansas Pollution Control and Ecology Commission (APC&EC) adopted revisions to Regulation 9—Permit Fee Regulations, Regulation 19—Regulations of the Arkansas Plan of Implementation for Air Pollution Control, and Regulation 26—Regulations of the Arkansas Operating Air Permit Program. On October 26, 2012, APC&EC adopted additional revisions to Regulation 19. Governor Beebe submitted these revised regulations as a revision to the Arkansas SIP in a letter dated November 6, 2012.

The November 6th, 2012, letter requested that the EPA repeal the current SIP-approved permit fee program provisions found in Regulation 9 and replace with the new provisions included in the submittal for Chapters 1, 2,¹ 3, 5, and 9, of Regulation 9 which relate to the State's air program. This action will repeal the current SIP-approved version of Regulation 9 and replace with the current version of Regulation 9, Chapters 1, 2,² 3, 5, and 9 as requested by Arkansas. This includes revisions to Regulation 9, Chapter 5 addressing fee requirements for carbon dioxide and methane. The revisions to Regulations 19 and 26 will be addressed in separate rulemaking by the EPA.

¹ Only the portions of Chapter 2 that relate to the Air program are included in the Arkansas SIP. The definitions to include are specified in ADEQ letter to the EPA dated December 11, 2014, which is available in our rulemaking docket and addressed in more detail in the TSD.

² Ibid.

II. The EPA's Evaluation

As detailed in the Technical Support Document (TSD) accompanying this action, the ADEQ ³ submitted a SIP revision to the fee regulations requesting a withdrawal of the current SIP-approved permit fee program and replacement with the submitted revised fee regulations containing a new fee schedule and associated provisions specific to the State's air program. The EPA has reviewed the submitted revisions and determined that the submitted revised fee program is consistent with the general requirements at CAA section 110(a)(2)(E)(i) to provide necessary assurances that the State will have adequate funding to carry out the provisions of the Arkansas SIP as it pertains to major and minor source Title I permitting and CAA section 110(a)(2)(L) that requires states to charge necessary fees for the development and implementation of major source Title I permits. The Arkansas SIP is intended to implement Title I of the CAA, while Title V requirements are not generally included in SIPs.⁴ The repeal and replace included in the November 6, 2012, SIP submittal more accurately represents the current fee structure than the previously approved SIP, which was approved by EPA on November 12, 1986. Based on EPA's evaluation of the fee assessment provisions submitted, EPA finds the submitted repeal and replace of, and subsequent revisions to Arkansas Regulation 9 establishing fee requirements for permits is consistent with sections 110(a)(2)(E)(i) and 110(a)(2)(L) of the CAA.

³ The Arkansas Department of Environmental Quality (ADEQ) is the state agency that is charged with protecting, enhancing and restoring the environment for Arkansas. The Arkansas Pollution Control and Ecology Commission (APC&EC) is the environmental policy-making body for Arkansas.

⁴ The Arkansas air permitting program is a one permit system (meaning that title I and title V are issued together for major sources) the fee regulations are combined in Regulation 9. The EPA has not evaluated the revised Regulation 9 Fee Provisions for sufficiency under 40 CFR 70.9 of the title V state operating permit program.

III. Final Action

For the reasons stated above and in the TSD, the EPA is taking direct final action to approve revisions to the Arkansas SIP pertaining to title I fees. Specifically, the EPA is deleting the current SIP-approved fee program and approving in its place the revised Arkansas fee program at Regulation 9, Chapters 1, 2,⁵ 3, 5 and 9 effective on July 9, 2012, and submitted as revisions to the Arkansas SIP on November 6, 2012.

⁵ Only the portions of Chapter 2 that relate to the Air program are included in the Arkansas SIP. The definitions to include are specified in ADEQ letter to the EPA dated December 11, 2014, which is available in our rulemaking docket and addressed in more detail in the TSD.

We are approving the revisions to the Arkansas SIP under section 110 of the Act. We are publishing this rule without prior proposal because we view this as a noncontroversial amendment and anticipate no relevant adverse comments. However, in the proposed rules section of this Federal Register publication, we are publishing a separate document that will serve as the proposal to approve the SIP revision if relevant adverse comments are received. This rule will be effective on June 29, 2015 without further notice unless we receive relevant adverse comment by June 1, 2015. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

IV. Incorporation by Reference

In this direct final rule, the EPA is finalizing regulatory text that includes incorporation by reference. In accordance with requirements of 1 CFR 51.5, the EPA is finalizing the incorporation by reference of the Arkansas title I Permit Fees described in the Final Action section above. The EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 29, 2015. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 17, 2015.
Ron Curry,
Regional Administrator, Region 6.

40 CFR part 52 is amended as follows:

PART 52—APPROVAL AND PROMULGATION OF IMPLEMENTATION PLANS

1. The authority citation for part 52 continues to read as follows:

Authority: 42 U.S.C. 7401 et seq.

Subpart E—Arkansas

2. In § 52.170(c), the table titled “EPA-Approved Regulations in the Arkansas SIP” is amended by revising the heading and entries for “Arkansas Regulation No. 9: Permit Fees,” to read as follows:

§ 52.170 Identification of plan.

* * * * *

(c) * * *

EPA-Approved Regulations in the Arkansas SIP
State citation | Title/ subject | State submittal/ effective date | EPA approval date | Explanation
* * * * * * *
Regulation No. 9: Fee Regulation
Chapter 1 | Title | 7/9/2012 | 4/30/2015 [Insert FR citation]
Chapter 2 | Definitions | 7/9/2012 | 4/30/2015 [Insert FR citation] | The following definitions do not relate to the air program and are not being approved into the SIP: “Category”, “Certificate”, “Confined Animal Operation”, “Discretionary Major Facility”, “Evaluation”, “Laboratory“, “Major Municipal Facility”, “Non-Municipal Major Facility”, “Parameter”, “Program”.
Chapter 3 | Permit Fee Payment | 7/9/2012 | 4/30/2015 [Insert FR citation]
Chapter 5 | Air Permit Fees | 7/9/2012 | 4/30/2015 [Insert FR citation]
Chapter 9 | Administrative Procedures | 7/9/2012 | 4/30/2015 [Insert FR citation]

* * * * *

[FR Doc. 2015-09905 Filed 4-29-15; 8:45 am]

BILLING CODE 6560-50-P